DEPARTMENT OF THE INTERIOR

Bureau of Indian Affairs

Proclaiming Certain Lands as Reservation for the Confederated Tribes of Siletz Indians of Oregon

AGENCY: Bureau of Indian Affairs, Interior.

ACTION: Notice of reservation proclamation.

SUMMARY: The Assistant Secretary—Indian Affairs proclaimed approximately 10.70 acres, more or less, as an addition to the Siletz Indian Reservation for the Confederated Tribes of Siletz Indians of Oregon on March 12, 2003. This notice is published in the exercise of authority delegated by the Secretary of the Interior to the Assistant Secretary—Indian Affairs by 209 DM 8.1.

FOR FURTHER INFORMATION CONTACT: Larry E. Scrivner, Bureau of Indian Affairs, Division of Real Estate Services, MS-4512/MIB/Code 220, 1849 C Street, NW., Washington, DC 20240, telephone (202) 208-7737.

SUPPLEMENTARY INFORMATION: A proclamation was issued according to the Act of June 18, 1934 (48 Stat. 986; 25 U.S.C. 467), for four tracts of land described below. The land was proclaimed to be an addition to and part of the Siletz Indian Reservation for the exclusive use of Indians on that reservation who are entitled to reside at the reservation by enrollment or tribal membership.

Siletz Indian Reservation

Lincoln County, Oregon

Tract 1

A tract of land lying within Lots 14 and 15, Block 6, Siletz Townsite, Lincoln County Oregon, described as follows:

Beginning at the southwest corner of Lot 15, Block 6, Siletz Townsite, located in the northeast one-quarter of Section 9, Township 10 south, Range 10 west, Willamette Meridian in Lincoln County, Oregon, said corner being on the easterly Right-Of-Way of Gaither Street; thence north 89 deg. 59′ 43″ east, along the south boundary of Lot 15, a distance of 165.96 feet to the southeast corner of the tract described in Book 177, page 1838, recorded December 30, 1986; thence north 00 deg. 05′ 01″ west along the eastline of said Book 177, page 1838, to the southerly Right-Of-Way of East Logsden Road, a distance of 70.04 feet; thence south 89 deg. 58′ 26″ west, along said Right-Of-Way to the easterly Right-Of-Way of Gaither Street, a distance of 165.94 feet; thence south 00 deg. 04′ 24″ east, along said Right-Of-Way, a distance of 69.98 feet to the point of beginning. Containing 0.27 acres more or less.

Tract 2

A tract of land lying within Lots 14, 15, 16 and Tract C of Block 6, Siletz Townsite, a duly recorded subdivision plat, which is the northeast quarter, Section 9, Township 10 south, Range 10 west, Willamette Meridian, Lincoln County, Oregon. Said parcel being more particularly described in accordance with Lincoln County Survey Record Number 13,943 as follows:

Beginning at a ⅝ inch by 30 inch iron rebar set flush, with yellow plastic cap inscribed “VILES LS 2029”, which is at the intersection of the southeasterly line of Tract C (formally Power Site Reserve No. 181) and the south line of East Logsden Road; thence south 31 deg. 30′ 05″ west along above said southeasterly line of Tract C, 154.51 feet to a ½ inch by 27 inch iron rebar at the northeast corner of the Clark Tract described in instrument recorded June 11, 1997, Book 338, Page 2170; thence leaving above said line north 58 deg. 29′ 55″ west 100.05 feet along the north line of said Clark Tract to a ½-inch iron rebar, which is on the northwesterly line of above said Tract C; thence south 31 deg. 30′ 36″ west along above said northwesterly line of Tract C, 24.22 feet to a ⅝ inch by 30 inch iron rebar set flush, with yellow plastic cap inscribed “VILES LS 2029”, said point being the northeast corner of the Blackwood Tract described in instrument, recorded May 25, 1993, Book 262, page 183; thence leaving above said line south 89 deg. 59′ 58″ west 58.52 feet along said Blackwood line to a ⅝ inch by 30 inch iron rebar set flush, with yellow plastic cap inscribed “VILES LS 2029”, said point being a corner of said Blackwood Tract; thence north 00 deg. 04′ 38″ west 30.00 feet to a ⅝ inch by 30 inch iron rebar set flush, with yellow plastic cap inscribed “VILES LS 2029”, which is on the line common to Lot 15 and Lot 16, Block 6, Siletz Townsite; thence continuing north 00 deg. 04′ 38″ west 70.01 feet to a ⅝ inch by 30 inch iron rebar set flush, with yellow plastic cap inscribed “VILES LS 2029”, which is on the above said south line of East Logsden Road; thence along above said south line north 89 deg. 58′ 35″ east 120.00 feet to a ⅝-inch iron rebar which is at the above said northwesterly line of Tract C; thence continuing along above said south line north 89 deg. 58′ 35″ east 117.36 feet to the beginning point. Containing 0.48 acres more or less.

Tract 3

Parcel III A tract of land located in U.S. Lots 17 and 32, Section 4, Township 10 south, Range 10 west, Willamette Meridian and U.S. Lot 24, Section 3, Township 10 south, Range 10 west, Willamette Meridian, in Lincoln County, Oregon, being more particularly described as follows:

Beginning at the northwest corner of U.S. Lot 32, Section 4, Township 10 south, Range 10 west; thence south 00 deg. 38′ 26″ west, along the westerly line of U.S. Lot 32 to the northerly Right of Way of County Road No. 406 (also known as “Old River Road”), a distance of 157.92 feet; thence continuing on said Right of Way along the arc of a 411.97 foot radius curve to the right (the short chord of which bears north 47 deg. 46′ 42″ east, 56.56 feet), a distance of 56.60 feet; thence north 51 deg. 47′ 10″ east, a distance of 111.95 feet; thence along the arc of a 331.56 foot radius curve to the right (the long chord of which bears north 67 deg. 18′ 57″ east, 178.24 feet), a distance of 180.46 feet; thence north 82 deg. 53′ 58″ east, a distance of 172.13 feet; thence along the arc of a 219.11 foot radius curve to the left (the long chord of which bears north 55 deg. 39′ 57″ east, 200.54 feet), a distance of 208.29 feet; thence north 28 deg. 25′ 55″ east, a distance of 294.37 feet; thence along the arc of a 271.56 foot radius curve to the left (the long chord of which bears north 14 deg. 07′ 01″ east, 134.29 feet), a distance of 136.70 feet; thence north 00 deg. 11′ 53″ west, a distance of 71.49 feet; thence along the arc of a 220.99 foot radius curve to the right (the short chord of which bears north 14 deg. 41′ 58″ east, 113.63 feet), a distance of 114.92 feet to the most easterly corner of a tract of land as described in Microfilm Book 330, page 0078, Lincoln County Film Records; thence north 59 deg. 23′ 47″ west, along the Northerly boundary of the above described tract to the High Water Line of the east bank of the Siletz River, a distance of 329 feet, more or less; thence southwesterly, along said High Water Line to its intersection with the westerly line of U.S. Lot 17, Section 4; thence south 00 deg. 43′ 00″ west, along said westerly line to the southwest corner of U.S. Lot 17, which is the point of beginning, a distance of 144, more or less. Containing 9.2 acres more or less.

Tract 4

Parcel III A tract of land located in Section 9, Township 10 south, Range 10 west of the Willamette Meridian, Lincoln County, Oregon, described as follows:

Beginning at the northwest corner of Government Lot 15, in Section 9, Township 10 south, Range 10 west, Willamette Meridian, Lincoln County, Oregon; running thence north 0 deg. 01′ west, a distance of 332.8 feet to the true point of beginning of the tract herein described; thence north 89 deg. 59′ east, a distance of 200 feet, more or less, to the northwest corner of that tract conveyed to the Confederated Tribes of Siletz Indians by Memorandum of Contract recorded December 15, 1987 in Book 188, page 1134; thence south 0 deg. 01′ east 170 feet, more or less, to the northeast corner of the Neil Bordon Tract as described in Bargain and Sale Deed recorded May 22, 1989 in Book 204, page 1443; thence south 89 deg. 59′ west 200 feet, more or less, to the northwest corner of the Neil Bordon Tract as described by Warranty Deed recorded April 18, 1978 in Book 86, page 1091; thence north 0 deg. 01′ west 170 feet, more or less, to the point of beginning. Containing 0.75 acres more or less.

The above-described tracts contain a total of 10.70 acres, more or less, which are subject to all valid rights, reservations, rights-of-way, and easements of record.

This proclamation does not affect title to the land described above, nor does it affect any valid existing easements for public roads and highways, public utilities and for railroads and pipelines and any other rights-of-way or reservations record.

Dated: March 12, 2003.
Aurene M. Martin,
Assistant Secretary—Indian Affairs.

[FR Doc. 03-7637 Filed 3-28-03; 8:45 am]

BILLING CODE 4310-W7-P